DEPARTMENT OF ENERGY

Federal Energy Regulatory Commission

[Docket No. RP02-543-001]

Northern Border Pipeline Company; Notice of Compliance Filing

November 22, 2002.

Take notice that on November 19, 2002, Northern Border Pipeline Company (Northern Border) tendered for filing to become part of its FERC Gas Tariff, First Revised Volume No. 1, Substitute Second Revised Sheet No. 267; and Original Sheet No. 267.01, to become effective November 1, 2002.

Northern Border states that the purpose of this filing is to comply with the Commission's order at Docket No. RP02-543-000 dated October 30, 2002,1 wherein the Commission directed Northern Border to revise Northern Border's FERC Gas Tariff to comply with Section 154.109(b) of the Commission's regulations, stating when Northern Border will pay or contribute to the construction cost of lateral lines, and when the customer should bear those burdens.

Northern Border states that it has served a copy of this compliance filing upon the parties of record in this proceeding.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Linwood A. Watson, Jr.,
Deputy Secretary.

[FR Doc. 02-30282 Filed 11-27-02; 8:45 am]

BILLING CODE 6717-01-P